DEPARTMENT OF TRANSPORTATION

Federal Highway Administration

Notice of Funding Availability for the Ladders of Opportunity Initiative: Pilot On-the-Job-Training Supportive Services Program

AGENCY: Federal Highway Administration (FHWA), Department of Transportation (DOT).

ACTION: Notice of funding availability.

SUMMARY: The FHWA announces a Notice of Funding Availability (NOFA) for a Pilot On-the-Job-Training Supportive Services (OJT/SS) Program through the Ladders of Opportunity Initiative in the amount of $3 million. The FHWA seeks to award discretionary grants to State Departments of Transportation (State DOTs), or to other State agencies or local governments applying through their State DOTs as subrecipients, in award amounts of up to $500,000 each. The FHWA may choose to fund the program for more or less than the announced amount, including applying any future appropriated funds toward the projects proposed in response to this NOFA. This NOFA solicits proposals that promote innovative, nationally and regionally significant, highway construction workforce development programs that invest in America's economic growth and build ladders of opportunity into the middle class for American workers. The term “highway construction workforce” should be read broadly to encompass the workforce necessary to carry out activities eligible for funding under FHWA's Surface Transportation Program (STP) at section 133(b) of title 23, United States Code (U.S.C.). Applications should outline areas of upcoming demand in the State's highway construction workforce and ensure that proposed programs would train workers in skills to fill specific workforce shortages.

DATES: Complete proposals are due by 11:59 p.m., e.t. on December 23, 2015.

ADDRESSES: Applicants must submit all proposals electronically through http://www.grants.gov/. All entities intending to apply should initiate the process of registering on the grants.gov Web site immediately to ensure registration before the submission deadline. Instructions for applying can be found in the “FIND” module of grants.gov. Mail and fax submissions will not be accepted.

FOR FURTHER INFORMATION PLEASE CONTACT: For further information concerning this notice please contact Martha Kenley, FHWA's Office of Civil Rights, by email at martha.kenley@dot.gov; by telephone at 202-366-8110; or by mail at Federal Highway Administration, 1200 New Jersey Avenue SE., Washington, DC 20590. For legal questions, please contact Jim Esselman, FHWA Office of Chief Counsel, by email at james.esselman@dot.gov; by phone at 202-366-6181; or by mail at Federal Highway Administration, 1200 New Jersey Avenue SE., Washington, DC 20590. Office hours are from 8:00 a.m. to 4:30 p.m. e.t., Monday through Friday, except Federal holidays.

SUPPLEMENTARY INFORMATION: The FHWA On-the-Job Training (OJT) Program, described at section 230.111 of title 23, Code of Federal Regulations (CFR), requires State DOTs to make full use of apprenticeship and training programs targeted to developing the skills of women, minorities, and disadvantaged individuals and moving them into journey-level positions to ensure that a competent workforce is available to meet highway construction hiring needs. The OJT Program addresses the historical under-representation of these groups in highway construction skilled crafts. The FHWA established the OJT/SS Program to: (a) Increase the overall effectiveness of State DOTs' on-the-job-training requirements in connection with Federal-aid highway construction projects; and (b) to seek other ways to increase the training opportunities for women, minorities, and disadvantaged individuals who have been historically underrepresented in the industry.

Funding for OJT/SS derives from section 140(b) of title 23, U.S.C., which authorizes DOT to direct not more than $10,000,000 per year toward surface transportation and technology training. In recent years, FHWA has allocated OJT/SS funds annually to State DOTs through a formula process. That process will continue.

Through this notice, FHWA announces an opportunity for State DOTs, or for other State agencies or local governments applying through their State DOTs as subrecipients, to compete for supplementary OJT/SS funds to foster increased focus on workforce development under DOT's Ladders of Opportunity Initiative.

Table of Contents

A. Program Description

1. Authority

2. Policy Priorities

B. Federal Award Information

1. Available Funding and Expected Awards

C. Eligibility Information

1. Eligible Applicants

2. Cost Sharing or Matching

3. Strategic Partnerships

4. Other Eligibility Requirements

D. Application and Submission Information

1. AddressTo Request Application Package

2. Content and Form of Application Submission

3. Dun and Bradstreet Universal Numbering System (DUNS) and System for Award Management (SAM)

4. Submission Dates and Times

5. Funding Restrictions

E. Application Review Information

1. Criteria

2. Review and Selection Process

3. Anticipated Announcement and Award Dates

F. Federal Award Administration

1. Federal Award Notices

2. Administrative and National Policy Requirements

3. Reporting

G. Federal Awarding Agency Contacts

H. Other Information

1. Protection of Confidential Business Information

A. Program Description

1. Authority

Section 140(b) of title 23, U.S.C., authorizes FHWA's OJT/SS Program, under which FHWA funds State DOTs to undertake surface transportation and technology training, including skill improvement programs for workforce development. The FHWA's regulation at 23 CFR 230.113 sets forth requirements State DOTs must follow in implementing on-the-job training supporting services authorized under 23 U.S.C. 140(b). Under these authorities, FHWA is issuing this NOFA for the Ladders of Opportunity Initiative Pilot OJT/SS Program. The OJT programs eligible for supportive services under 23 CFR 230.113 include training and apprenticeship programs approved by a State's FHWA Division Office, registered apprenticeship programs approved by the U.S. Department of Labor (USDOL) or a State Apprenticeship Agency (SAA) recognized by the USDOL, or other training programs approved by the USDOL. Approved projects will help to bring American workers into the middle class and build critical skills to meet immediate and expected workforce demand in the highway construction industry.

2. Policy Priorities

The Ladders of Opportunity Initiative Pilot OJT/SS Program seeks to provide skills training for transportation workers that will lead to journey-level careers and/or the development of stackable credentials for workers in the highway construction industry. The FHWA is seeking projects that create new nationally or regionally significant workforce development programs or that augment or replicate successful existing programs that will benefit highway construction firms or the highway construction industry. While either type of effort will be considered, FHWA will likely give greater consideration to programs or approaches with an existing track record of success.

In evaluating proposed projects, FHWA will give priority to projects that focus on one or more of the following activities:

• Targeting areas with high rates of unemployment;

• encouraging increased participation of minority groups, disadvantaged individuals, and women;

• providing career pathways that support the movement of targeted populations from initial or short-term employment opportunities to sustainable careers;

• leveraging the use of other resources to support the proposed project;

• addressing gaps in areas with current or projected workforce shortages in fields related to highway construction;

• pre-employment training/preparation/tracking; and

• recruitment and hiring.

B. Federal Award Information

1. Available Funding and Expected Awards

Through the Ladders of Opportunity Initiative Pilot OJT/SS Program, FHWA seeks to award a total of $3 million through discretionary grants to State DOTs, or to other State agencies or local governments applying through their State DOTs as subrecipients, in award amounts of up to $500,000. The FHWA may choose to fund the program for more or less than the announced amount, including applying any future appropriated funds toward the projects proposed in response to this NOFA.

C. Eligibility Information

1. Eligible Applicants

Eligible applicants are State DOTs. Other State agencies or local governments may apply through their State DOTs as subrecipients.

2. Cost Sharing or Matching

The funding announced by this NOFA was authorized by both SAFETEA-LU and MAP-21. While there are no minimum cost-share requirements, FHWA will give greater weight to applications with higher non-Federal cost share, or that designate the use of Federal-aid highway funds under 23 U.S.C. 504(e) toward proposed projects.

3. Strategic Partnerships

To be eligible for funding under this NOFA, applicants must commit to working in partnership with one or more external strategic partner(s) with a substantial interest and involvement in the project. An external partner must be an entity that has no direct relationship to the primary applicant. For example, the external partner may not be a department within the applicant's organization. An external partner entity could include, but is not limited to:

a. Educational institutions, which include entities providing professional accreditation, degree, and/or certification programs, such as universities, community colleges, or trade schools;

b. public workforce investment systems, such as local workforce investment boards and their one-stop systems;

c. labor organizations, such as labor unions and labor management organizations;

d. contractor associations; and/or

e. non-profit organizations that support the mission of highway construction and transportation workforce development.

The applicant need not necessarily identify a particular strategic partner in its application, but if it does not, it must commit to soliciting proposals from potential partners to ensure the competitive nature of the program.

4. Other Eligibility Requirements

a. Allowable Activities

Projects must provide direct support to highway construction workforce development programs that are qualified under 23 CFR 230.111 (i.e., training or apprenticeship programs approved by the FHWA, registered apprenticeship programs approved by the USDOL or an SAA, or other training programs approved by the USDOL). The term “highway construction workforce” should be read broadly to encompass the workforce necessary to carry out activities eligible for funding under FHWA's STP at 23 U.S.C. 133(b). Capital expenses, such as equipment purchases, are not considered to be eligible costs unless they directly relate to the FHWA-funded workforce development program. Acceptable costs can include, but are not limited to: Faculty/instructors, including salaries and fringe benefits; support staff; classroom space; books, materials, and supplies; and transportation stipends for participants.

b. Unallowable Costs

The FHWA funds under this program are not intended as an offset to regular State DOT or other applicant employee salaries and may not be used to cover the regular or overtime salaries of applicant employees. Funds made available under this program shall not be used to finance the training of applicant agency employees or to provide services in support of such training. Funds may be used to cover the costs of staff directly engaged in a program management or training role at an agency.

c. Application Limitations

Applicants, whether a State DOT or a subrecipient applying through the State DOT, may submit more than one proposal. An applicant will not receive greater consideration as a result of submitting multiple proposals.

D. Application And Submission Information

1. Address To Request Application Package

This NOFA contains all information needed to apply for the grant. Applicants must submit proposals electronically through http://www.grants.gov. All entities intending to apply should initiate the process of registering on the grants.gov Web site immediately to ensure registration before the submission deadline. Instructions for applying can be found in the “FIND” module of grants.gov. Mail and fax submissions will not be accepted.

2. Content and Form of Application Submission

The applicant should submit a project narrative statement describing the project objectives, proposed work tasks, outputs, and benefits of the proposed project for which Federal assistance is being requested. If the project is a proposal seeking support for an existing program, it should describe the proposed project within the context of the larger effort.

The narrative also should indicate whether the applicant will provide matching funds, the expected duration of the project, and other information that would assist FHWA in understanding and evaluating the project. Each submission for a project narrative statement should not exceed 10 pages (single-spaced, single-sided, 12 point font on 8.5 x 11 inch paper) and must include the information listed below:

a. Project Title, Objective(s), and Contact Person

At the top of the document, state the title of the project and provide 2-3 sentences describing the intended project goals and outcomes. List the contact person for the application along with his or her address, title, phone number, fax number, and email address.

b. Statement of the Problem(s)

Characterize the workforce issue or problem present in the highway construction industry that the project directly addresses, and describe how the applicant identified the issue (i.e., whether the applicant surveyed workforce investment boards, labor organizations, contractors, educational institutions, or other interested stakeholders). Describe how the project will specifically address the issue for the applying organization. Provide a description of the new or existing program to be supported by the proposed project. Describe how the project meets the policy priorities identified in Section A.2. of this NOFA.

Explain why the specified approach is being taken as opposed to others and how its innovative aspects have potential for nationwide or regional application. In addition to innovative workforce practices, cite the unique features of the project, such as technological innovations, reductions in cost or time, or social and community involvement.

Finally, identify uncertainties and external factors that could affect the schedule, cost, or success of the program. The applicant may provide supporting documentation as an attachment that will not count toward the total page limit. The FHWA will consider such information supplementary but will not necessarily consider it in the project selection process.

c. Geographic Location, Target Groups, and Emphasis Areas

Give a precise location or locations of the project and identify the area(s) and target group(s) to be directly served by the proposed effort. The applicant may attach maps or other graphic aids as needed.

d. Strategic Partners

Applicants must commit to working in partnership with one or more external strategic partner(s) with a substantial interest and involvement in the project. An external partner must be an entity that has no direct relationship to the primary applicant. For example, the external partner may not be a department within the applicant's organization. An external partner entity could include, but is not limited to:

(1) Educational institutions, which include entities providing professional accreditation, degree, and/or certification programs, such as universities, community colleges, or trade schools;

(2) public workforce investment systems, such as local workforce investment boards and their one-stop systems;

(3) labor organizations, such as labor unions and labor management organizations; and/or

(4) non-profit organizations that support the mission of highway construction and transportation workforce development.

The applicant need not necessarily identify a particular strategic partner in its application, but if it does not, it must commit to soliciting proposals from potential partners to ensure the competitive nature of the program.

e. Scope of Work

Outline a plan of action, organized by work task, pertaining to the scope and detail of how the applicant will accomplish the proposed work. List estimated milestone dates for all major activities. The applicant should clearly demonstrate the connection between each activity and the overall project objectives. The Scope of Work also should address supporting activities, such as marketing plans for recruiting participants and/or dissemination strategies for sharing the results, if such are critical to the success of the program.

f. Final Deliverable

Proposals must describe at least one final project deliverable and how it will improve the state of the practice. Final products and project deliverables must be made available at no cost to FHWA and other agencies at the project's close for dissemination throughout the industry. Acceptable final products and deliverables include but are not limited to class materials, Web sites or software, recruitment materials, flyers, brochures and reports. Additionally, written quarterly progress reports and a final report are required.

g. Period of Performance

Provide a schedule for completion of tasks assuming a total period of performance of up to 36 months. If the applicant is proposing a phased plan, describe the schedule for additional phases on a separate page or separate pages which will not be counted toward the page maximum.

h. Budget Proposal

Provide a cost proposal indicating staffing levels, hours, and direct costs for the total project and the amount of funding requested from FHWA. The proposal must describe the source and the amount of matching funds, if any. The cost proposal also must set forth the nature and value of in-kind resources that team members will contribute, if any. Provide a line-item budget for the total project, with enough detail to indicate the various key components of the project. The proposal must apply cost principles found in 2 CFR part 200, subpart E.

i. Performance Measurement

Provide an approach for demonstrating the local, national or regional impact of the project on the highway construction industry and broader employment opportunities, including the number of jobs directly supported or created by the program. The proposal should include a description of the applicant's plan for recording the outcomes and reporting in a Final Report at the end of the project. The Final Report should contain, at minimum:

(1) Number of Individuals Affected

Applicants should define “affected individuals” in terms that make sense for the proposed project. For example, other reported outcomes could include:

• Number of target individuals (women, minorities, and disadvantaged individuals) entered into the program;

• number of individuals who successfully complete the program, achieve an applicable credential, etc.;

• number of placed new workers and/or advanced incumbent workers;

• number of retained workers after 90 days or some other relevant period.

(2) Performance Metrics

The FHWA prefers quantitative metrics but will consider qualitative metrics if they are based on the experiences of those affected by the program (as opposed to the self-assessment of the applicant or partner agencies). Metrics could include, but are not limited to, survey results, exit interviews, and longitudinal tracking of staff (during the period of performance only). At least one performance metric is required. As part of the proposal, provide projections (for quantitative measures) or short hypotheses (for qualitative measures) of what type of impact/performance FHWA could expect from the project.

(3) A 1-2 Page Project Description

The project description should state the project's initial goals and measure achievements against those goals. This statement can also include “lessons learned.”

(4) A 1-2 Page Statement of Applicability to Other Entities

The applicant must describe how the project could be scaled and/or altered for application elsewhere once the project is complete, and what benefits could be realized by doing so.

j. Project Management

Describe the applicant's proposed approach for managing and staffing the project, including the distribution of responsibilities among potential partner entities and an organizational chart, if applicable. Include responsibilities, such as regular reporting, performance measurement, and technical/management interactions with FHWA.

k. Project Staff

List all known key individuals who will work on the project, along with short descriptions of their appropriate technical expertise and experience. Attach resumes or curriculum vitae if available. Project staff resumes or curriculum vitae will not count towards the total page count for proposal submissions. Describe how the applicant will engage in a competitive process to solicit organizational partners and/or consultants.

3. Dun and Bradstreet Universal Numbering System (DUNS) and System for Award Management (SAM)

Each applicant is required to (i) be registered in SAM before submitting its application; (ii) provide a valid DUNS number in its application; (iii) continue to maintain an active SAM registration with current information at all times during which it has an active Federal award or an application or plan under consideration by a Federal awarding agency. The FHWA may not make a Federal award to an applicant until the applicant has complied with all applicable DUNS and SAM requirements. If an applicant has not fully complied with the requirements by the time FHWA is ready to make a Federal award, FHWA may determine that the applicant is not qualified to receive a Federal award and use that determination as a basis for making a Federal award to another applicant.

4. Submission Dates and Times

Complete proposals for the Ladders of Opportunity Initiative Pilot OJT/SS Program must be submitted electronically through the grants.gov Web site by 11:59 p.m., e.t. on December 23, 2015. Late applications will not be accepted. Applicants are encouraged to begin the process of registration on the grants.gov Web site well in advance of the submission deadline. Registration is a multi-step process, which may take several weeks to complete before submission of an application. Applicants who are already registered on grants.gov may need to take steps to keep their registration up to date before they submit a proposal.

5. Funding Restrictions

Costs incurred before the FHWA award are not eligible as project expenses, and FHWA cannot retroactively approve a project. The recipient or subrecipient may begin to incur project costs on the date that the grant agreement is executed. The FHWA expects grantees to implement the projects awarded as soon as possible and to fully expend grant funds during the period of performance, recognizing that full transparency and accountability are required for all expenditures.

E. Application Review Information

1. Criteria

The FHWA will evaluate the applications submitted according to the criteria set forth below:

a. Statement of Need

The FHWA will evaluate the extent to which the project identifies a clear and specific industry need for the Federal investment in the proposed highway construction workforce development activities and how well the proposed project addresses the policy priorities in Section A.2. of this NOFA. An applicant must submit data and provide evidence of the industry need and value for the proposed program.

b. Innovation

The FHWA will evaluate the extent to which a project identifies a unique, significant, or innovative approach to address workforce development issues in the highway construction industry.

c. Furthering Ladders of Opportunity

The FHWA will use the following activity areas to evaluate the extent to which an applicant demonstrates how this program or project can assist in building ladders of opportunity to the middle class by building pathways to job opportunities in the highway construction field:

(1) Targeting areas with high rates of unemployment;

(2) providing career pathways that support the movement of the targeted population from initial or short-term employment opportunities to sustainable careers;

(3) encouraging increased participation of minority groups, disadvantaged persons, and women;

(4) leveraging the use of other resources to support workforce development;

(5) addressing gaps in areas with current or projected workforce shortages in fields related to highway construction;

(6) pre-employment training/preparation/tracking; and

(7) recruitment and hiring.

d. Outcomes and Deliverables

The FHWA will evaluate the extent to which the applicant demonstrates a results-oriented approach to managing and operating the project. In particular, FHWA will evaluate the extent to which the applicant identifies an approach for demonstrating the local, national, or regional impact of the project on the surface transportation industry and broader employment opportunities, including the number of jobs directly supported or created by the program.

The FHWA prefers quantitative metrics but will consider qualitative metrics if they are based on the experiences of those affected by the program (as opposed to the self-assessment of the applicant or partner agencies). Metrics could include, but are not limited to, survey results, exit interviews, and longitudinal tracking of staff (during the period of performance only). At least one performance metric is required. As part of the proposal, provide projections (for quantitative measures) or short hypotheses (for qualitative measures) of what type of impact/performance FHWA could expect from the project.

The FHWA will also evaluate the extent to which the applicant describes the products and deliverables that will be produced as a result of the project activities.

e. Strategic Partnerships

Applicants must commit to working in partnership with one or more external strategic partner(s) with a substantial interest and involvement in the project. Applicants need not necessarily identify a particular strategic partner in their applications, but if they do not, they must identify the competitive process they intend to follow for soliciting proposals from appropriate agencies, organizational partners and/or consultants in support of the proposed project.

f. National Replicability

The FHWA will evaluate whether the project has national or regional applicability and whether it will provide a replicable model of workforce development practices.

g. Cost Sharing

Both SAFETEA-LU and MAP-21 authorized the funding announced by this NOFA. While there are no minimum cost-share requirements, FHWA will give greater weight to applications with higher non-Federal cost share, or that designate the use of Federal-aid highway funds under 23 U.S.C. 504(e) toward proposed projects.

h. Strategy and Project Work Plan

The period of performance will be up to 36 months from the date of execution of the grant documents. This performance period includes all necessary implementation and start-up activities, execution of the program, and completion of final deliverables as specified in the applicant's Scope of Work. The FHWA will evaluate the project work plan pursuant to the following factors:

(1) The presentation of a coherent plan that demonstrates the applicant's complete understanding of all the activities, responsibilities, and costs required to implement each phase of the project and achieve projected outcomes;

(2) the demonstrated feasibility and reasonableness of the timeline for accomplishing all necessary implementation activities, including the ability to expeditiously begin training; and

(3) the extent to which the budget aligns with the proposed work plan and is justified with respect to the adequacy and reasonableness of resources requested.

i. Project Management and Organizational Capacity

The FHWA will evaluate the capacity of the applicant to effectively staff and/or oversee the proposed initiative and deliver the proposed outcomes, as well as the fiscal, administrative, and performance management capacity to implement the key components of this project. The FHWA also will evaluate the track record of the applicant to implement projects of similar focus, size, and scope.

2. Review and Selection Process

A technical evaluation committee will review proposals using the project selection criteria. Members of the technical evaluation committee reserve the right to screen and rate the applications FHWA receives and to seek clarification from any applicant about any statement in its application that FHWA finds ambiguous and/or to request additional documentation to be considered during the evaluation process to clarify information contained within the proposal. After considering the findings of the technical evaluation committee, the FHWA Administrator will determine the final selection and amount of funding for each project. The FHWA may consider geographic diversity and the applicant's receipt of other discretionary awards in its award decisions.

F. Federal Award Administration Information

1. Federal Award Notices

After FHWA has selected the proposals to be funded, it will notify successful applicants by email or telephone of their status. In addition, FHWA will publish a notice in the Federal Register announcing successful applicants. Upon notification of intent to award funds, FHWA may withdraw its offer to provide Federal assistance if the recipient or subrecipient does not commence its competitive process to solicit partners and/or consultants consistent with its proposal submission within 90 days following the date of the offer.

2. Administrative and National Policy Requirements

All awards will be administered pursuant to the Uniform Administrative Requirements, Cost Principles, and Audit Requirements for Federal Awards found in 2 CFR part 200. Applicable Federal laws, rules, and regulations set forth in title 23, U.S.C., and title 23 of the CFR, apply.

The successful applicant shall grant FHWA, upon request, the right of access to all records and the right to audit all aspects of the project.

The successful applicant, and all partners and consultants shall be required to submit non-collusion certifications.

3. Reporting

The FHWA requires the successful applicant to submit quarterly written reports to FHWA, containing statistical data and narrative sufficient to evaluate the progress of the project and to identify any problems. The FHWA also requires the successful applicant to submit a detailed final report at the project end, containing statistical data and narrative sufficient to evaluate whether the project met its projected outcomes.

G. Federal Awarding Agency Contacts

For general program information, please use the contact information in the front of this notice. Please contact the grants.gov helpdesk for assistance with electronic applications via email at support@grants.gov or call toll-free at (800) 518-4726.

H. Other Information

1. Protection of Confidential Business Information

All information submitted as part of or in support of any application shall use publicly available data or data that can be made public and methodologies that are accepted by industry practice and standards, to the extent possible. If the application includes information you consider to be a trade secret or confidential commercial or financial information, the applicant should do the following: (1) Note on the front cover that the submission “Contains Confidential Business Information (CBI)”; (2) mark each affected page “CBI”; and (3) highlight or otherwise denote the CBI portions.

The FHWA protects such information from disclosure to the extent allowed under applicable law. In the event FHWA receives a Freedom of Information Act (FOIA) request for the information, FHWA will follow the procedures described in its FOIA regulations at 49 CFR 7.17. Only information that is ultimately determined to be confidential under that procedure will be exempt from disclosure under FOIA.

Authority: 23 U.S.C. 140(b).

Issued: September 18, 2015.
Gregory G. Nadeau,
Administrator, Federal Highway Administration.

[FR Doc. 2015-24245 Filed 9-23-15; 8:45 am]

BILLING CODE 4910-22-P